FEDERAL MARITIME COMMISSION

Notice of Agreement(s) Filed

The Commission hereby gives notice of the filing of the following agreement(s) under the Shipping Act of 1984. Interested parties can review or obtain copies of agreements at the Washington, DC offices of the Commission, 800 North Capitol Street, N.W., Room 962. Interested parties may submit comments on an agreement to the Secretary, Federal Maritime Commission, Washington, DC 20573, within 10 days of the date this notice appears in the Federal Register.

Agreement No.: 011299-003.

Title: A.P. Moller-Maersk Sealand/P&O.

Nedlloyd Agreement.

Parties:

A.P. Moller-Maersk Sealand.

P&O Nedlloyd Limited.

Synopsis: The proposed modification restates the agreement to reflect the current understanding of the parties.

Dated: May 12, 2000.
By Order of the Federal Maritime Commission.
Bryant L. VanBrakle,
Secretary.

[FR Doc. 00-12431 Filed 5-16-00; 8:45 am]

BILLING CODE 6730-01-P